DEPARTMENT OF HEALTH AND HUMAN SERVICES

Centers for Disease Control and Prevention

[30Day-24-1186]

Agency Forms Undergoing Paperwork Reduction Act Review

In accordance with the Paperwork Reduction Act of 1995, the Centers for Disease Control and Prevention (CDC) has submitted the information collection request titled “Information Collection for Tuberculosis Data from Referring Entities to CureTB” to the Office of Management and Budget (OMB) for review and approval. CDC previously published a “Proposed Data Collection Submitted for Public Comment and Recommendations” notice on December 15, 2023 to obtain comments from the public and affected agencies. CDC did not receive comments related to the previous notice. This notice serves to allow an additional 30 days for public and affected agency comments.

CDC will accept all comments for this proposed information collection project. The Office of Management and Budget is particularly interested in comments that:

(a) Evaluate whether the proposed collection of information is necessary for the proper performance of the functions of the agency, including whether the information will have practical utility;

(b) Evaluate the accuracy of the agencies estimate of the burden of the proposed collection of information, including the validity of the methodology and assumptions used;

(c) Enhance the quality, utility, and clarity of the information to be collected;

(d) Minimize the burden of the collection of information on those who are to respond, including, through the use of appropriate automated, electronic, mechanical, or other technological collection techniques or other forms of information technology, e.g., permitting electronic submission of responses; and

(e) Assess information collection costs.

To request additional information on the proposed project or to obtain a copy of the information collection plan and instruments, call (404) 639-7570. Comments and recommendations for the proposed information collection should be sent within 30 days of publication of this notice to www.reginfo.gov/public/do/PRAMain. Find this particular information collection by selecting “Currently under 30-day Review—Open for Public Comments” or by using the search function. Direct written comments and/or suggestions regarding the items contained in this notice to the Attention: CDC Desk Officer, Office of Management and Budget, 725 17th Street NW, Washington, DC 20503 or by fax to (202) 395-5806. Provide written comments within 30 days of notice publication.

Proposed Project

Information Collection for Tuberculosis Data from Referring Entities to CureTB (OMB Control No. 0920-1186, Exp. 02/29/2024)—Revision—National Center for Emerging and Zoonotic Infectious Diseases (NCEZID), Centers for Disease Control and Prevention (CDC).

Background and Brief Description

The CureTB program works to prevent the spread of tuberculosis (TB) among people who cross international borders. To reduce disease transmission and the emergence of drug-resistant TB, CureTB connects people with TB to healthcare services as they move between the United States and other countries. The program is a collaboration between CDC's Division of Global Migration Health (DGMH) and the County of San Diego's Tuberculosis Control Program. CureTB collaborates with health authorities throughout the United States and around the world to link people with TB to care at their destinations. Health departments, healthcare providers, and others seeking help in linking patients to ongoing TB care in other countries can refer patients to CureTB.

Information will be collected from the referring entities, which are State and local health departments and Federal immigration and detention agencies. Whenever the referring entities provide clinical services to an individual with TB who has imminent plans to relocate, and an individual needs continuity of care in their new location, CDC CureTB is contacted to assist with coordinating that care. TB patients may also be a respondent if critical clinical or contact data is missing and requires follow-up by CureTB to complete a patient's referral information set. The request for CDC CureTB services comes from the referring entities and they supply the information at the time the patient is likely to leave their jurisdiction. The referring entities update information only if relevant information to the patient's care becomes available to them after their first communication with CDC CureTB. Therefore, information is already largely collected by CDC CureTB only at one point in time, with subsequent information only collected if departure is delayed or when initially pending information becomes available and this is beyond the control of CDC.

Post relocation of the TB patient, data is also collected from the receiving physicians to determine patient outcomes. CDC CureTB contacts the physician an average of every two months during the standard six-month TB treatment process. The data provides valuable information on globally mobile populations and allows CDC to assist in continuity of TB care and monitor the effectiveness of the program.

The continuous expansion and use of the CureTB Program requires certain processes be evaluated. The Supplemental CureTB Program Partner Satisfaction Assessment Questionnaire will guide CureTB in making appropriate program improvements to best serve referring partners. The Questionnaires will not be used to collect demographic or clinical information, rather, they will ask the referring partners about their experience separately from the other forms already used for demographic and clinical information for each patient.

As part of this revision request, CureTB is updating the number of respondents and total burden hours. There are no changes to the data collection instruments. CDC requests OMB approval for an estimated 1,139 annual burden hours. There are no costs to respondents other than their time to participate.

Estimated Annualized Burden Hours
Type of respondents | Form name | Number of respondents | Number of responses per respondent | Average burden per response (in hours)
U.S. Health Departments | CureTB Transnational Notification | 100 | 3 | 30/60
TB patients referred by U.S. health departments | CureTB Transnational Notification | 200 | 1 | 5/60
TB patients referred by ICE | CureTB Transnational Notification | 600 | 1 | 45/60
TB treating physicians in new country | CureTB Telephone Script Clinician/foreign health authority Referral Follow-up | 900 | 3 | 10/60
U.S. Health Departments | CureTB Contact/Source Investigation (CI/SI) Notification | 20 | 5 | 30/60
U.S. Health Department (Local & State) | CureTB Partner Feedback (Satisfaction Assessment)—Questionnaire 1 | 100 | 1 | 10/60
U.S. Health Department | CureTB Partner Feedback (Satisfaction Assessment)—Questionnaire 2 | 50 | 1 | 6/60

Jeffrey M. Zirger,
Lead, Information Collection Review Office, Office of Public Health Ethics and Regulations, Office of Science, Centers for Disease Control and Prevention.

[FR Doc. 2024-03241 Filed 2-15-24; 8:45 am]

BILLING CODE 4163-18-P